FEDERAL RETIREMENT THRIFT INVESTMENT BOARD

Sunshine Act; Notice of Meeting

Agenda

FEDERAL RETIREMENT THRIFT INVESTMENT BOARD MEMBER MEETING

October 27, 2015

8:30 a.m. In-Person Meeting

Open Session

1. Approval of the Minutes for the September 10, 2015 Board Member Meeting

2. Monthly Reports

(a) Monthly Participant Activity Report

(b) Legislative Report

3. Quarterly Reports

(a) Investment Policy Report

(b) Vendor Financials

(c) Audit Status

(d) Budget Review

(e) Project Activity Report

4. Capital Market and L Fund

5. Investment Policy

6. Mid-Year Financial Review

7. ORM Report

8. Calendar

Closed Session

9. Security

Adjourn

CONTACT PERSON FOR MORE INFORMATION: Kimberly Weaver, Director, Office of External Affairs, (202) 942-1640.

Dated: October 19, 2015.
Megan Grumbine,
Deputy General Counsel, Federal Retirement Thrift Investment Board.

[FR Doc. 2015-26857 Filed 10-19-15; 4:15 pm]

BILLING CODE 6760-01-P